DEPARTMENT OF TRANSPORTATION

Federal Motor Carrier Safety Administration

[Docket No. FMCSA-2023-0055]

Agency Information Collection Activities; Renewal of an Approved Information Collection: Training Certification for Entry-Level Commercial Motor Vehicle Operators

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled, “Training Certification for Entry-Level Commercial Motor Vehicle Operators,” which will continue to be used to register providers of entry-level driver training and to provide State Drivers' Licensing Agencies with information on individuals who have completed said training. If approved, this renewal will allow FMCSA to continue to collect information on registered training providers and entry-level driver training certification information until 2026.

DATES: Comments on this notice must be received on or before May 30, 2023.

ADDRESSES: You may submit comments identified by Federal Docket Management System Docket Number FMCSA-2023-0055 using any of the following methods:

• Federal eRulemaking Portal: http://www.regulations.gov. Follow the online instructions for submitting comments.

• Fax: 1-202-493-2251.

• Mail: Dockets Operations; U.S. Department of Transportation, 1200 New Jersey Avenue SE, West Building, Ground Floor, Room W12-140, Washington, DC 20590-0001.

• Hand Delivery or Courier: Dockets Operations, U.S. Department of Transportation, 1200 New Jersey Avenue SE, West Building, Ground Floor, Room W12-140, Washington, DC 20590-0001 between 9 a.m. and 5 p.m., Monday through Friday, except Federal holidays.

Instructions: All submissions must include the Agency name and docket number. For detailed instructions on submitting comments, see the Public Participation heading below. Note that all comments received will be posted without change to https://www.regulations.gov, including any personal information provided. Please see the Privacy Act heading below.

Docket: For access to the docket to read background documents or comments received, go to https://www.regulations.gov, and follow the online instructions for accessing the docket, or go to the street address listed above.

Privacy Act: In accordance with 5 U.S.C. 553(c), DOT solicits comments from the public to better inform its rulemaking process. DOT posts these comments, without edit, including any personal information the commenter provides, to www.regulations.gov, as described in the system of records notice DOT/ALL 14 (Federal Docket Management System (FDMS)), which can be reviewed at https://www.transportation.gov/individuals/privacy/privacy-act-system-records-notices, the comments are searchable by the name of the submitter.

Public Participation: The Federal eRulemaking Portal is available 24 hours each day, 365 days each year. You can obtain electronic submission and retrieval help and guidelines under the “FAQ” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Joshua Jones, Commercial Driver's License Division, DOT, FMCSA, West Building 6th Floor, 1200 New Jersey Avenue SE, Washington, DC 20590-0001; 202-366-7332; Joshua.jones@dot.gov.

SUPPLEMENTARY INFORMATION:

Background: The Federal Motor Carrier Safety regulations require minimum training standards for entry-level drivers, and include two separate information collection actions: (1) Training providers must electronically submit information to FMCSA's Training Provider Registry (TPR) to ensure that they meet the new training provider eligibility requirements and may therefore be listed on a new TPR; and (2) after an individual driver-trainee completes training administered by a training provider listed on the TPR, that training provider must electronically submit training certification information regarding the driver-trainee to the TPR. While there have been a number of regulatory actions delaying compliance with these requirements, all have been in effect since February 7, 2022. The information collection estimates included in this renewal action are based on actual data from the TPR and from training certification transactions over the past year.

Title: Training Certification for Entry-Level Commercial Motor Vehicle Operators.

OMB Control Number: 2126-0028.

Type of Request: Renewal of a currently-approved ICR.

Respondents: Training Providers.

Estimated Number of Respondents: 7,774.

Estimated Time per Response (average): 0.55 hours.

Expiration Date: June 30, 2023.

Frequency of Response: All training providers will need to initially register once. Additionally, all registered training providers must update their information at least biennially. They are also required to provide an update if any key information (company name, address, phone number, types of training offered, etc.) changes prior to their biennial update. After an individual driver-trainee completes training administered by a training provider listed on the TPR, that training provider must submit training certification information regarding the driver-trainee to the TPR.

Estimated Total Annual Burden: 80,299 hours.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.
Thomas P. Keane,
Associate Administrator, Office of Research and Registration.

[FR Doc. 2023-06547 Filed 3-29-23; 8:45 am]

BILLING CODE 4910-EX-P